DEPARTMENT OF JUSTICE

Notice of Public Meeting by Teleconference Concerning Heavy Duty Diesel Engine Consent Decrees

The Department of Justice and the Environmental Protection Agency will hold a public meeting on June 14, 2010 at 3 p.m. by telephone conference. The subject of the meeting will be implementation of the provisions of the seven consent decrees signed by the United States and diesel engine manufacturers and entered by the United States District Court for the District of Columbia on July 1, 1999 (United States v. Caterpillar, Case No. 1:98CV02544; United States v. Navistar International Transportation Corporation, Case No. 1:98CV02545; United States v. Cummins Engine Company, Case No. 1:98CV02546; United States v. Detroit Diesel Corporation, Case No. 1:98CV02548; United States v. Volvo Truck Corporation, Case No. 1:98CV02547; United States v. Mack Trucks, Inc., Case No. 1:98CV01495; and United States v. Renault Vehicles Industries, S.A., Case No. 1:98CV02543). In supporting entry by the court of the decrees, the United States committed to meet with states, industry groups, environmental groups, and concerned citizens to discuss consent decree implementation issues. This is the fourteenth public meeting. It is anticipated that this will be the last such meeting. The United States has received, or anticipates receiving, requests from the diesel engine manufacturers for termination of their respective decrees. This meeting notice is also available on EPA's Diesel Engine Settlement Web site at http://www.epa.gov/compliance/resources/cases/civil/caa/diesel/index.html.

Interested parties should contact the Environmental Protection Agency at the address listed below prior to the meeting to reserve a telephone line and receive instructions for the call.

Agenda

1. Panel Remarks—3 p.m.

Remarks by DOJ and EPA regarding the completion of the terms of the consent decrees and the termination process.

2. Public comments and questions

Adjourn—4 p.m.

FOR FURTHER INFORMATION CONTACT: Anne Wick, EPA Diesel Engine Consent Decree Coordinator, U.S. Environmental Protection Agency (Mail Code 2242A), 1200 Pennsylvania Avenue, NW., Washington, DC 20460, e-mail: wick.anne@epa.gov.

Maureen Katz,
Assistant Chief, Environment & Natural Resources Division, Environmental Enforcement Section.

[FR Doc. 2010-12324 Filed 5-21-10; 8:45 am]

BILLING CODE 4410-15-P